CONSUMER PRODUCT SAFETY COMMISSION

Sunshine Act Meetings

TIME AND DATE: Wednesday, March 15, 2023—10:00 a.m.

PLACE: The meeting will be held remotely, and in person at 4330 East-West Highway, Bethesda, Maryland 20814.

STATUS: Commission meeting—open to the public.

MATTERS TO BE CONSIDERED: Briefing Matter: Supplemental Notice of Proposed Rulemaking: Safety Standard for Portable Generators.

To attend virtually, please pre-register using the following link: https://cpsc.webex.com/cpsc/j.php?MTID=m3f93aaf969db17b5120ddfd3d61a0412.

After registering you will receive a confirmation email containing information about joining the meeting.

CONTACT PERSON FOR MORE INFORMATION: Alberta E. Mills, Office of the Secretary, U.S. Consumer Product Safety Commission, 4330 East-West Highway, Bethesda, MD 20814, 301-504-7479 (office) or 240-863-8938 (cell).

Dated: March 8, 2023.
Alberta E. Mills,
Commission Secretary.

[FR Doc. 2023-05140 Filed 3-9-23; 11:15 am]

BILLING CODE 6355-01-P